DEPARTMENT OF COMMERCE

National Oceanic and Atmospheric Administration

[Docket No. 080626787-81233-04]

RIN 0648-ZB96

Availability of Grant Funds for Fiscal Year 2009

AGENCY: National Oceanic and Atmospheric Administration (NOAA), Commerce.

ACTION: Notice.

SUMMARY: The National Oceanic and Atmospheric Administration (NOAA) publishes this notice to add proposal format requirements, place a limit on proposed indirect costs, further clarify cost sharing requirements and change the full proposal submission deadline to November 3, 2008 for the solicitation “Saltonstall-Kennedy Grant Program,” in order to give the public more time to respond to these new requirements. The initial solicitation, which was originally announced in the Federal Register on July 11, 2008, gave a proposal due date of October 1, 2008.

DATES: Applications must be received by 5 p.m. Eastern Time on November 3, 2008. Applications received after the deadline will be rejected/returned to the sender without further consideration. No facsimile or electronic mail applications will be accepted.

ADDRESSES FOR SUBMITTING PROPOSALS: Applications must be submitted through www.grants.gov, unless an applicant does not have Internet access. In that case, hard copies with original signatures may be sent to: Mr. Steve Aguzin, S-K Program Manager, NOAA/NMFS (F/MB5), 1315 East-West Highway, Room 13134, Silver Spring, MD 20910-3282.

FOR FURTHER INFORMATION CONTACT: The point of contact is: Steve Aguzin, S-K Program Manager, NOAA/NMFS (F/MB5), 1315 East-West Highway, Room 13134, Silver Spring, MD 20910-3282; or by Phone at (301) 713-2358 ext. 215, or fax at (301) 713-1306, or via E-mail at Stephen.Aguzin@noaa.gov.

SUPPLEMENTARY INFORMATION: NOAA publishes this notice to add proposal format requirements, place a limit on proposed indirect costs, further clarify cost sharing requirements and change the full proposal submission deadline to November 3, 2008 for the solicitation “Saltonstall-Kennedy Grant Program,” announced in the Federal Register on July 11, 2008 (73 FR 40052). The deadline for full submissions is changed from October 1, 2008 to November 3, 2008 in order to give the public more time to respond to these new requirements. All other requirements for this solicitation remain the same.

Application And Submission Information

You must follow the instructions in this document in order to apply for a grant or cooperative agreement under the Saltonstall-Kennedy Grant Program. Your application must be complete and must follow the format described here.

A. Cover Sheet

You must use Office of Management and Budget (OMB) Standard Form 424 and 424B as the cover sheet for each project.

B. Project Summary

You must complete a Project Summary for each project. You must list the specific priority to which the application responds.

C. Project Budget

You must submit a budget for each project and provide detailed cost estimates showing total project costs. Indicate the breakdown of costs between Federal and non-Federal shares, divided into cash and in-kind contributions. To support the budget, describe briefly the basis for estimating the value of the cost sharing derived from in-kind contributions. Specify estimates of the direct costs in the categories listed on the Project Budget form.

You may also include in the budget an amount for indirect costs if you have an established indirect cost rate with the Federal government. For this solicitation, the total dollar amount of the indirect costs you propose in your application must not exceed the indirect cost rate negotiated and approved by a cognizant Federal agency prior to the proposed effective date of the award, or 100 percent of the total proposed direct costs dollar amount in the application, whichever is less.

Furthermore, the Federal share of the indirect costs you propose may not exceed 25 percent of the total proposed direct costs. If your application requests more than 25 percent of the total costs as Federal funds to cover indirect costs, the application will be returned to you and will not be considered for funding.

If you have an approved indirect cost rate above 25 percent of the total proposed direct cost, you may use the amount above the 25-percent level up to the 100-percent level as part of the non-Federal share. You must include a copy of the current, approved, negotiated indirect cost agreement with the Federal government with your application.

We will not consider fees or profits as allowable costs in your application.

The total costs of a project consist of all allowable costs you incur, including the value of in-kind contributions, in accomplishing project objectives during the life of the project. A project begins on the effective date of an award agreement between you and an authorized representative of the U.S. Government and ends on the date specified in the award. Accordingly, we cannot reimburse you for time that you expend or costs that you incur in developing a project or preparing the application, or in any discussions or negotiations you may have with us prior to the award. We will not accept such expenditures as part of your cost share.

D. Narrative Project Description

You must provide a narrative description of your project that may be up to 25 pages long. All pages must be single-spaced and should be composed in at least a 12-point font with one-inch margins on 8 1/2 x 11 paper. The project description may not exceed 25 pages, exclusive of the title page, project synopsis, literature cited, budget information, and resumes of investigator. Any PDF or other attachments that are included in an electronic application must meet the above format requirement when printed out. Failure to follow the requirements will result in the rejection of the application and subsequent return.

The narrative should demonstrate your knowledge of the need for the project, and show how your proposal builds upon any past and current work in the subject area, as well as relevant work in related fields. You should not assume that we already know the relative merits of the project you describe. You must describe your project as follows:

1. Project goals and objectives. Identify the specific priority listed earlier in the solicitation to which the proposed project responds. Identify the problem/opportunity you intend to address and describe its significance to the fishing community. State what you expect the project to accomplish.

If you are applying to continue a project we previously funded under the S-K Program, describe in detail your progress to date and explain why you need additional funding. We will consider this information in evaluating your current application.

2. Project impacts. Describe the anticipated impacts of the project on the fishing community in terms of reduced bycatch, increased product yield, or other measurable benefits. Describe how you will make the results of the project available to the public.

3. Evaluation of project. Specify the criteria and procedures that you will use to evaluate the relative success or failure of a project in achieving its objectives.

4. Need for government financial assistance. Explain why you need government financial assistance for the proposed work. List all other sources of funding you have or are seeking for the project.

5. Federal, state, and local government activities and permits. List any existing Federal, state, or local government programs or activities that this project would affect, including activities requiring: certification under state Coastal Zone Management Plans; section 404 or section 10 permits issued by the Corps of Engineers; experimental fishing or other permits under FMPs; environmental impact statements to meet the requirements of the National Environmental Policy Act; scientific permits under the ESA and/or the Marine Mammal Protection Act; or Magnuson-Stevens Act EFH consultation if the project may adversely affect areas identified as EFH. Describe the relationship between the project and these FMPs or activities, and list names and addresses of persons providing this information. You can get information on these activities from the NMFS Regions (see Section I.F., Application ADDRESSES). If we select your project for funding, you are responsible for complying with all applicable requirements.

6. Project statement of work. The statement of work is an action plan of activities you will conduct during the period of the project. You must prepare a detailed narrative, fully describing the work you will perform to achieve the project goals and objectives. The narrative should respond to the following questions:

(a) What is the project design? What specific work, activities, procedures, statistical design, or analytical methods will you undertake?

(b) Who will be responsible for carrying out the various activities? (Highlight work that will be subcontracted and provisions for competitive subcontracting.)

(c) What are the major products and how will project results be disseminated? Describe products of the project, such as a manual, video, technique, or piece of equipment. Indicate how project results will be disseminated to potential users.

(d) What are the project milestones? List milestones, describing the specific activities and associated time lines to conduct the scope of work. Describe the time lines in increments (e.g., month 1, month 2), rather than by specific dates. Identify the individual(s) responsible for the various specific activities.

This information is critical for us to conduct a thorough review of your application, so we encourage you to provide sufficient detail.

7. Participation by persons or groups other than the applicant. Describe how government and non-government entities, particularly members of fishing communities, will participate in the project, and the nature of their participation. We will consider the degree of participation by members of the fishing community in determining which applications to fund.

8. Project management. Describe how the project will be organized and managed. Identify the principal investigator and other participants in the project. If you do not identify the principal investigator, we will return your application without further consideration. Include copies of any agreements between you and the participants describing the specific tasks to be performed. Provide a statement no more than two pages long of the qualifications and experience (e.g., resume or curriculum vitae) of the principal investigator(s) and any consultants and/or subcontractors, and indicate their level of involvement in the project. If any portion of the project will be conducted through consultants and/or subcontracts, you must follow procurement guidance in 15 CFR part 24, “Grants and Cooperative Agreements to State and Local Governments,” and 15 CFR part 14, “Uniform Administrative Requirements for Grants and Agreements with Institutions of Higher Education, Hospitals, Other Non-Profit, and Commercial Organizations.” If you select a consultant and/or a subcontractor prior to submitting an application, indicate the process that you used for selection.

E. Supporting Documentation

You should include any relevant documents and additional information (i.e., maps, background documents) that will help us to understand the project and the problem/opportunity you seek to address.

Cost Sharing Requirements

We are requiring cost sharing in order to leverage the limited funds available for this program and to encourage partnerships among government, industry, and academia to address the needs of fishing communities. You must provide a minimum cost share of 10 percent of total project costs, but your cost share must not exceed 50 percent of total costs.

You may find this formula useful:

1. Total Project Cost (Federal and non-Federal cost share combined) x .9 = Maximum Federal Share.

2. Total Cost - Federal share = Applicant Share.

For example, if the proposed total budget for your project is $100,000, the maximum Federal funding you can apply for is $90,000 ($100,000 x .9). Your cost share in this case would be $10,000 ($100,000 - $90,000).

For a total project cost of $100,000, you must contribute at least $10,000, but no more than $50,000 (10-50 percent of total project cost). Accordingly, the Federal share you apply for would range from $50,000 to $90,000. If your application does not comply with these cost share requirements, we will return it to you and will not consider it for funding.

The funds you provide as cost sharing may include funds from private sources or from state or local governments, or the value of in-kind contributions. You may not use Federal funds to meet the cost sharing requirement except as provided by Federal statute. In-kind contributions are non-cash contributions provided to you by non-Federal third parties. In-kind contributions may include, but are not limited to, personal services volunteered to perform tasks in the project, and permission to use, at no cost, real or personal property owned by others.

We will determine the appropriateness of all cost sharing proposals, including the valuation of in-kind contributions, on the basis of guidance provided in 15 CFR parts 14 and 24. In general, the value of in-kind services or property you use to fulfill your cost share will be the fair market value of the services or property. Thus, the value is equivalent to the cost for you to obtain such services or property if they had not been donated. You must document the in-kind services or property you will use to fulfill your cost share.

If we decide to fund your application, we will require you to account for the total amount of cost share included in the award document.

Limitation of Liability

Funding for programs listed in this notice is contingent upon the availability of Fiscal Year 2009 appropriations. Applicants are hereby given notice that funds have not yet been appropriated for the programs listed in this notice. In no event will NOAA or the Department of Commerce be responsible for proposal preparation costs if these programs fail to receive funding or are cancelled because of other agency priorities. Publication of this announcement does not oblige NOAA to award any specific project or to obligate any available funds.

Universal Identifier

Applicants should be aware that, they are required to provide a Dun and Bradstreet Data Universal Numbering System (DUNS) number during the application process. See the October 30, 2002 Federal Register, (67 FR 66177) for additional information. Organizations can receive a DUNS number at no cost by calling the dedicated toll-free DUNS Number request line at 1-866-705-5711 or via the internet http://www.dunandbradstreet.com.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216--6--TOC.pdf, NEPA Questionnaire, http://www.nepa.noaa.gov/questionnaire.pdf, and the Council on Environmental Quality implementation regulations, http://ceq.hss.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment. The Department of Commerce Pre-Award Notification Requirements for Grants and Cooperative Agreements contained in the Federal Register notice of February 11, 2008 (73 FR 7696) are applicable to this solicitation.

Paperwork Reduction Act

This document contains collection-of-information requirements subject to the Paperwork Reduction Act (PRA). The use of Standard Forms 424, 424A, 424B, 424C, 424D, and SF-LLL has been approved by OMB under the respective control numbers 4040-0004, 0348-0044, 4040-0007, 0348-0041, 4040-0009, and 0348-0046. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: September 24, 2008.
James W. Balsiger,
Acting Assistant Administrator for Fisheries, National Marine Fisheries Service.

[FR Doc. E8-22970 Filed 9-29-08; 8:45 am]

BILLING CODE 3510-PJ-S